ENVIRONMENTAL PROTECTION AGENCY

40 CFR Part 52

[EPA-R01-OAR-2020-0132; FRL-10007-96-Region1]

Air Plan Approval and Air Quality Designation; Connecticut; Determination of Clean Data for the 2008 8-Hour Ozone Standard for the Greater Connecticut Area; Correction

AGENCY: Environmental Protection Agency (EPA).

ACTION: Proposed rule; correction.

SUMMARY: This document corrects information displayed in a Table within the proposed rule published in the Federal Register on March 27, 2020. The Environmental Protection Agency (EPA) published a proposed rule determining that the Greater Connecticut Serious 8-hour ozone nonattainment area had attained the 2008 8-hour National Ambient Air Quality Standard (NAAQS) for ozone.

DATES: April 20, 2020.

FOR FURTHER INFORMATION CONTACT: Elizabeth Townsend, Air Quality Branch, U.S. Environmental Protection Agency, EPA Region 1, 5 Post Office Square, Suite 100 (Mail code: 05-2), Boston, MA 02109-3912, telephone number: (617) 918-1614, email townsend.elizabeth@epa.gov.

SUPPLEMENTARY INFORMATION: The EPA issued a proposed rule in the Federal Register on March 27, 2020 (85 FR 17301). There was an error in “Table 1” contained within section “II. Analysis of Air Quality Data” of the March 27, 2020 proposed rule. The table erroneously listed three data points in the “2016” column for Abington, Cornwall, and East Hartford. Table 1 should have listed the fourth-high 8-hour ozone average concentration in 2016 for Abington as 0.067, Cornwall as 0.074, and East Hartford as 0.072. The corrected data reflects EPA's concurrence on Connecticut's exceptional event demonstrations from the 2016 Fort McMurray wildfire that caused elevated ozone levels throughout Connecticut. The fourth-high 8-hour ozone average concentrations exceeded the 2008 8-hour NAAQS at the Cornwall monitoring station, and elevated ozone concentrations at the Abington and East Hartford stations. This corrective action does not affect the calculated design values in Table 2, which determine if an area is meeting the NAAQS. This correction notice does not otherwise change the remaining portions of the March 27, 2020 notice of proposed rulemaking.

Correction

In FR Doc. 2020-06273 appearing on pages 17301-17303 in the Federal Register of Friday, March 27, 2020, the following correction is made:

On page 17302, in Table 1, under the heading entitled “2016” remove the text “0.074” associated with Abington and replace the text with “0.067”, remove the text “0.078” associated with Cornwall and replace the text with “0.074”, and remove the text “0.075” associated with East Hartford and replace the text with “0.072”. The complete corrected table is below:

Table 1—Fourth-High 8-Hour Ozone Average Concentrations (Parts per Million, ppm) in the Greater Connecticut Area
Location | AQS site ID | 2016 | 2017 | 2018 | 2019
Abington | 90159991 | 0.067 | 0.075 | 0.072 | 0.066
Cornwall | 90050005 | 0.074 | 0.067 | 0.071 | 0.062
East Hartford | 90031003 | 0.072 | 0.070 | 0.067 | 0.072
Groton | 90110008 | 0.075 | 0.078 | 0.074 | 0.075
Stafford | 90131001 | 0.072 | 0.070 | 0.071 | 0.073

List of Subjects in 40 CFR Part 52

Environmental protection, Air pollution control, Incorporation by reference, Ozone, Reporting and recordkeeping requirements.

Dated: April 6, 2020.
Dennis Deziel,
Regional Administrator, EPA Region 1.

[FR Doc. 2020-07599 Filed 4-17-20; 8:45 am]

BILLING CODE 6560-50-P